DEPARTMENT OF HOMELAND SECURITY

Federal Emergency Management Agency

44 CFR Part 67

[Docket No. FEMA-B-7753]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before March 27, 2008.

ADDRESSES: The corresponding preliminary Flood Insurance Rate Map (FIRM) for the proposed BFEs for each community are available for inspection at the community's map repository. The respective addresses are listed in the table below.

You may submit comments, identified by Docket No. FEMA-B-7753, to William R. Blanton, Jr., Chief, Engineering Management Branch, Mitigation Directorate, Federal Emergency Management Agency, 500 C Street SW., Washington, DC 20472, (202) 646-3151, or (e-mail) bill.blanton@dhs.gov.

FOR FURTHER INFORMATION CONTACT: William R. Blanton, Jr., Chief, Engineering Management Branch, Mitigation Directorate, Federal Emergency Management Agency, 500 C Street SW., Washington, DC 20472, (202) 646-3151 or.(e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location** | *Elevation in feet (NGVD) +Elevation in feet (NAVD) #Depth in feet above ground: Existing | *Elevation in feet (NGVD) +Elevation in feet (NAVD) #Depth in feet above ground: Modified
City of Sacramento, California
California | City of Sacramento | Natomas Basin | Area West of Natomas East Main Drainage Canal | None | *33
|  |  | Area North of American River | None | *33
|  |  | Area East of Sacramento River | None | *33
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Sacramento
Maps are available for inspection at Stormwater Management Program, 1395 35th Avenue, Sacramento, CA 95822.
Unincorporated Areas of Sacramento County, California
California | Unincorporated Areas of Sacramento County | Natomas Basin | Area West of Natomas East Main Drainage Canal | None | *33
|  |  | Area North of American River | None | *33
|  |  | Area East of Sacramento River | None | *33
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Sacramento County
Maps are available for inspection at Municipal Services Agency, Department of Water Resources, 827 7th Street, Room 301, Sacramento, CA 95814.
Unincorporated Areas of Sutter County, California
California | Unincorporated Areas of Sutter County | Natomas Basin | Area West of Natomas East Main Drainage Canal | None | *33
|  |  | Area South of Cross Canal | None | *33
|  |  | Area East of Sacramento River | None | *33
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Sutter County
Maps are available for inspection at Sutter County Administrators Office, 1160 Civic Center Boulevard, Yuba City, CA 95993.

Flooding source(s) | Location of referenced elevation * * | * Elevation in feet (NGVD) +Elevation in feet (NAVD) # Depth in feet above ground: Effective | * Elevation in feet (NGVD) +Elevation in feet (NAVD) # Depth in feet above ground: Modified | Communities affected
Cobb County, Georgia and Incorporated Areas
Allatoona Branch | Approximately 700 feet upstream of confluence of Allatoona Creek | +983 | +985 | Unincorporated Areas of Cobb County.
| Approximately 75 feet upstream of Holland Rd | +1017 | +1019
Allatoona Creek | Approximately 625 feet upstream of County Line Rd | +861 | +862 | Unincorporated Areas of Cobb County.
| Approximately 1625 feet upstream of Holland Rd | +1078 | +1070
Bishop Creek | Just upstream of confluence with Sope Creek | +907 | +911 | Unincorporated Areas of Cobb County.
| Just upstream of Seven Springs Circle | +973 | +979
Blackjack Creek | Just upstream of confluence with Sope Creek | +993 | +999 | Unincorporated Areas of Cobb County, City of Marietta.
| Just upstream of Lightfoot Circle | None | +1065
Butler Creek | Approximately 1375 feet upstream of Nance Rd | +861 | +862 | Unincorporated Areas of Cobb County, City of Acworth, City of Kennesaw.
| Approximately 600 feet downstream of Sumit Wood Drive | +1027 | +1024
Campground Creek | Just upstream of confluence with Sope Creek | +928 | +931 | Unincorporated Areas of Cobb County.
| Approximately 800 feet upstream of Roswell Road | None | +1057
Concord Creek | Approximately 50 feet upstream of Covered Bridge Road | +898 | +897 | Unincorporated Areas of Cobb County.
| Approximately 650 feet downstream of Durrell Street | None | +1014
Cooper Lake Creek | Approximately 550 feet downstream of East West Connector | +829 | +825 | Unincorporated Areas of Cobb County, City of Smyrna.
| Approximately 100 feet upstream of Gann Road | None | +892
Due West Creek | Approximately 300 feet downstream of Hadaway Road | +895 | +896 | Unincorporated Areas of Cobb County.
| Approximately 1100 feet downstream of Butterfield Road | None | +988
Eastside Creek | Just upstream of confluence with Sope Creek | +915 | +920 | Unincorporated Areas of Cobb County.
| Just downstream of Greenview Drive | None | +965
Elizabeth Branch | Just upstream of the confluence with Sope Creek | +999 | +1000 | Unincorporated Areas of Cobb County, City of Marietta.
| Approximately 1750 feet upstream of interstate 75 | None | +1082
Favor Creek | Approximately 1025 feet upstream of confluence of Nickajack Creek | +914 | +917 | Unincorporated Areas of Cobb County.
| Approximately 1225 feet downstream of Favor Road | +988 | +987
Hope Creek | Just upstream of confluence with Rottenwood Creek | +945 | +940 | Unincorporated Areas of Cobb County, City of Marietta.
| Approximately 1100 upstream of Interstate 75 | None | +1004
Laurel Creek | Approximately 375 feet upstream of Norfolk Southern Corporation Railroad | +801 | +807 | Unincorporated Areas of Cobb County, City of Smyrna.
| Approximately 150 feet downstream of Dunn Street | None | +986
Liberty Hill Branch | Approximately 400 feet upstream of Monarch Valley Walk | +767 | +770 | Unincorporated Areas of Cobb County.
| Approximately 950 feet upstream of Blackhawk Trail | +884 | +914
Little Allatoona Creek | Approximately 1875 feet upstream of Old Stilesboro Road | +895 | +896 | Unincorporated Areas of Cobb County.
| Approximately 925 feet upstream of Fernstone Road | +926 | +932
Little Noonday Creek | Approximately 1925 feet upstream confluence of Noonday Creek | +908 | +906 | Unincorporated Areas of Cobb County.
| Approximately 1325 feet upstream of Almon Drive | +1008 | +1007
Lost Mountain Creek | At Confluence with Wildhorse Creek | +902 | +907 | City of Powder Springs.
| Approximately 1850 feet upstream of the confluence with Wildhorse Creek | +906 | +907
Luther Ward Creek | Approximately 1525 feet upstream of confluence of Mud Creek | +917 | +920 | Unincorporated Areas of Cobb County.
| Approximately 1700 feet upstream of Luther Ward Road | +967 | +963
Milam Branch | Approximately 700 feet upstream of confluence of Queen Creek | +929 | +914 | Unincorporated Areas of Cobb County.
| Approximately 50 feet downstream of Lone Oak Drive | +1007 | +1010
Mill Creek No. 1 | Approximately 250 feet upstream of the confluence of Powder Springs Creek | +941 | +942 | Unincorporated Areas of Cobb County.
| Just downstream of Poplar Springs Road | +1002 | +1001
Mill Creek No. 2 | Approximately 2000 feet upstream of confluence of Nickajack Creek | +909 | +908 | Unincorporated Areas of Cobb County.
| Approximately 100 feet upstream of Hicks Road | None | +965
Morgan Lake Tributary | Just upstream of Rio Montana Drive | +950 | +947 | Unincorporated Areas of Cobb County.
| Approximately 300 feet downstream of Morgan Lake Dam | +988 | +986
Mud Creek | Approximately 1600 feet upstream of confluence of Nose Creek | +909 | +912 | Unincorporated Areas of Cobb County.
| Approximately 250 feet downstream of Gordon Combs Road | +1023 | +1024
Nickajack Creek | Approximately 2550 feet downstream of Veterans Memorial Highway | +766 | +767 | Unincorporated Areas of Cobb County, City of Smyrna.
| Approximately 200 feet upstream of Cobb Drive | None | +1047
Noonday Creek | Approximately 175 feet upstream of Shallowford Road | +907 | +904 | Unincorporated Areas of Cobb County, City of Kennesaw, City of Marietta.
| Approximately 325 feet upstream of New Salem Road | None | +1025
Noonday Tributary No. 3 | Approximately 1125 feet upstream of confluence of Noonday Creek | +926 | +928 | Unincorporated Areas of Cobb County, City of Marietta.
| Approximately 350 feet downstream Dickson Road | +1056 | +1051
Noonday Tributary No. 7 | Approximately 425 feet upstream of confluence of Noonday Creek | +955 | +953 | Unincorporated Areas of Cobb County.
| Approximately 1500 feet downstream of Club Drive | +997 | +995
Noses Creek | Approximately 300 feet upstream of Clay Road | +891 | +892 | Unincorporated Areas of Cobb County, City of Austell, City of Marietta, City of Powder Springs.
| Approximately 225 feet downstream of Tower Road | +1081 | +1082
Olley Creek | Approximately 2525 feet upstream of confluence of Sweetwater Creek | +891 | +892 | Unincorporated Areas of Cobb County, City of Austell, City of Marietta.
| Approximately 50 feet downstream of Hill Street | +1072 | +1069
Olley Creek Tributary | Approximately 350 feet downstream of Booth Road | +1004 | +1001 | Unincorporated Areas of Cobb County, City of Marietta.
| Approximately 600 feet upstream of Brownstone Road | None | +1026
Piney Grove Creek | Just upstream of the Confluence with Sewell Mill Creek | +942 | +951 | Unincorporated Areas of Cobb County.
| Just downsteam of Davis Road | +1070 | +1067
Pitner Creek | Approximately 800 feet upstream of confluence of Little Allatoona Creek | +892 | +890 | Unincorporated Areas of Cobb County.
| Approximately 425 feet upstream of Fords Road | +994 | +997
Poorhouse Creek | Just upstream of the confluence with Rottenwood Creek | +926 | +928 | Unincorporated Areas of Cobb County, City of Marietta.
| Approximately 4,800 feet upstream of Cobb Parkway | None | +954
Poplar Creek | Just upstream of confluence with Rottenwood Creek | +877 | +880 | Unincorporated Areas of Cobb County, City of Smyrna.
| Just upstream of PineCrest Circle | None | +1011
Powder Springs Creek | Approximately 2100 feet upstream of C H James Parkway | +913 | +914 | Unincorporated Areas of Cobb County.
| Approximately 800 feet upstream of Macland Road | +940 | +941
Powers Creek | Just upstream of confluence with Rottenwood Creek | +931 | +933 | Unincorporated Areas of Cobb County
| Approximately 200 feet upstream of Powers Ferry Road | None | +951
Proctor Creek | Approximately 1950 feet upstream of Old Highway 41 | +864 | +865 | Unincorporated Areas of Cobb County, City of Acworth, City of Kennesaw.
| Just upstream of Jiles Road | None | +948
Queen Creek | Approximately 175 feet downstream of Queens River Drive | +766 | +767 | Unincorporated Areas of Cobb County.
| Approximately 225 feet upstream of Mableton Drive | None | +997
Robertson Creek | Just upstream of the Confluence with Sewell Mill Creek | +922 | +923 | Unincorporated Areas of Cobb County.
| Approxiamtely 600 feet upstream of Benson Drive | None | +1019
Rottenwood Creek | Approxiamtely 500 feet upstream of the confluence with the Chattahoochee River | +788 | +789 | Unincorporated Areas of Cobb County, City of Marietta.
| Just upstream of Fairground Street | +1051 | +1052
Rubes Creek | Approximately 2800 feet upstream of confluence of Trickum Creek | +898 | +896 | Unincorporated Areas of Cobb County.
| Approximately 130 feet upstream of Saxony Glen | None | +1075
Rubes Creek Tributary | Just upstream of Confluence with Rubes Creek | +921 | +918 | Unincorporated Areas of Cobb County.
| Approximately 750 feet upstream of Keheley Road | +990 | +986 |
Sewell Mill Creek | Just Upsteam of Greenfield Drive | +919 | +921 | Unincorporated Areas of Cobb County.
| Just upstream of Karen Lane | +1086 | +1084
Smyrna Branch | Approximately 450 feet downstream of Cobb Drive | +936 | +933 | City of Smyrna.
| Approximately 175 feet upstream of Powder Springs Street | None | +997
Sope Branch | Just upstream of Confluence with Sope Creek | +1022 | +1023 | City of Marietta.
| Approxiamtely 300 feet upstream of Sequoia Road | None | +1088
Sope Creek | Just upstream of confluence with the Chattahoochee River | +807 | +808 | Unincorporated Areas of Cobb County, City of Marietta.
| Approxiamtely 1025 feet upstream of Fairground Street | None | +1042
Tanyard Creek | Approximately 1275 feet upstream of Lake Acworth Drive | +867 | +864 | Unincorporated Areas of Cobb County, City of Acworth.
| Approximately 300 feet downstream of Baker Plantation Drive | +918 | +919
Theater Branch | Approximately 125 feet upstream of Old Concord Road | +928 | +929 | Unincorporated Areas of Cobb County, City of Smyrna.
| Just downstream of Parkway Drive | +970 | +973
Thompson Creek | Just upstream of the Confluence with Sewell Mill Creek | +933 | +934 | Unincorporated Areas of Cobb County.
| Just upstream of Pine Road | +964 | +965
Trickum Creek | Just upstream of Confluence with Rubes Creek | +910 | +911 | Unincorporated Areas of Cobb County.
| Approximately 400 feet upstream of Pete Shaw Road | None | +1054
Trickum Creek Tributary | Just upstream of confluence with Trickum Creek | +934 | +935 | Unincorporated Areas of Cobb County.
| Just downstream of Jims Road | +1104 | +1108
Ward Creek | Approximately 600 feet upstream of Ernest Barrett Parkway | +923 | +926 | Unincorporated Areas of Cobb County, City of Marietta.
| Approximately 50 feet downstream of Northcutt Street | +1054 | +1050
Westside Branch | At confluence with Ward Creek | +1017 | +1016 | City of Marietta.
| Approximately 500 feet upstream of the confluence with Ward Creek | +1017 | +1016
Wildhorse Creek | At Confluence with Noses Creek | +902 | +907 | Unincorporated Areas of Cobb County, City of Powder Springs.
| Just Downstream of Macedonia Road | +906 | +907
Wildwood Branch | Just upstream of the confluence with Sope Creek | +976 | +985 | Unincorporated Areas of Cobb County, City of Marietta.
| Approximately 300 feet downstream of Varner Road | None | +1027
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Acworth
Maps are available for inspection at City Hall, 4415 Senator Russell Avenue, Acworth, GA 30101.
City of Austell
Maps are available for inspection at 2716 Broad Street, SW, Austell, GA 30106.
City of Kennesaw
Maps are available for inspection at 2529 J.O. Stephenson Avenue, Kennesaw, GA 30144.
City of Marietta
Maps are available for inspection at Development and Inspection Department, 205 Lawrence Street, Marietta, GA 30060.
City of Powder Springs
Maps are available for inspection at City Hall, 4484 Marietta Street, Powder Springs, GA 30127.
City of Smyrna
Maps are available for inspection at City Hall, 2800 King Street, Smyrna, GA 30080.
Unincorporated Areas of Cobb County
Maps are available for inspection at 100 Cherokee Street, Marietta, GA 30090.
Douglas County, Georgia, and Incorporated Areas
Alexander Branch | At confluence with Bear Creek | None | +957 | Unincorporated Areas of Douglas County.
| Approximately 3,630 feet upstream of the confluence of Alexander Branch Tributary B | None | +1094 |
Tributary A | At confluence with Alexander Branch | None | +1000 | Unincorporated Areas of Douglas County.
| Approximately 1,080 feet upstream of Cougar Trail | None | +1040 |
Tributary B | At confluence with Alexander Branch | None | +1026 | Unincorporated Areas of Douglas County.
| Approximately 1,030 feet upstream of confluence with Alexander Branch | None | +1060 |
Amber Creek | At confluence with Anneewakee Creek | None | +789 | Unincorporated Areas of Douglas County.
| Approximately 4,610 feet upstream of Jan Drive | None | +934 |
Tributary A | At confluence with Amber Creek | None | +823 | Unincorporated Areas of Douglas County.
| Approximately 2,540 feet upstream of Jan Drive | None | +902 |
Anneewakee Creek | Approximately 670 feet upstream of State Highway 166 | None | +747 | Unincorporated Areas of Douglas County, City of Douglasville.
| Approximately 2,480 feet upstream of the confluence of Anneewakee Creek Tributary L | None | +1147 |
Tributary A | At confluence with Anneewakee Creek | None | +747 | Unincorporated Areas of Douglas County.
| Approximately 2,880 feet upstream of confluence with Anneewakee Creek | None | +799 |
Tributary B | At confluence with Anneewakee Creek | None | +747 | Unincorporated Areas of Douglas County.
| Approximately 2,320 feet upstream of confluence with Anneewakee Creek | None | +811 |
Tributary C | At confluence with Anneewakee Creek | None | +776 | Unincorporated Areas of Douglas County.
| Approximately 1,400 feet upstream of confluence with Anneewakee Creek | None | +866 |
Tributary D | At confluence with Anneewakee Creek | None | +844 | Unincorporated Areas of Douglas County.
| Approximately 2,150 feet upstream of confluence with Anneewakee Creek | None | +906 |
Tributary E | At confluence with Anneewakee Creek | +864 | +873 | Unincorporated Areas of Douglas County.
| Approximately 2,910 feet upstream of confluence with Anneewakee Creek | None | +894 |
Tributary F | At confluence with Anneewakee Creek | +878 | +879 | Unincorporated Areas of Douglas County.
| Approximately 4,000 feet upstream of confluence with Anneewakee Creek | None | +913 |
Tributary G | At confluence with Anneewakee Creek | +884 | +892 | Unincorporated Areas of Douglas County.
| Approximately 4,270 feet upstream of confluence with Anneewakee Creek | None | +980 |
Tributary H | At confluence with Anneewakee Creek | +887 | +894 | Unincorporated Areas of Douglas County, City of Douglasville.
| Approximately 2,450 feet upstream of confluence with Anneewakee Creek | None | +915 |
Tributary I | At confluence with Anneewakee Creek | +891 | +895 | Unincorporated Areas of Douglas County.
| Approximately 840 feet upstream of Warren Road | None | +948 |
Tributary J | At confluence with Anneewakee Creek | None | +945 | Unincorporated Areas of Douglas County, City of Douglasville.
| Approximately 2,690 feet upstream of confluence with Anneewakee Creek | None | +1010
Tributary K | At confluence with Anneewakee Creek | None | +1063 | City of Douglasville.
| Approximately 1,560 feet upstream of Rose Lake Circle | None | +1128 |
Tributary L | At confluence with Anneewakee Creek | None | +1108 | City of Douglasville.
| Approximately 300 feet upstream of Gurley Road | None | +1131 |
Arbor Branch | At confluence with Anneewakee Creek | None | +995 | Unincorporated Areas of Douglas County, City of Douglasville.
| Approximately 160 feet upstream of Pine Lane | None | +1125 |
Tributary A | At confluence with Arbor Branch | None | +1084 | City of Douglasville.
| Approximately 1,310 feet upstream of Interstate Highway 20/Tom Murphy Freeway | None | +1127 |
Austin Creek | At confluence with Anneewakee Creek | None | +935 | Unincorporated Areas of Douglas County.
| Approximately 210 feet upstream of Mill Glen Drive | None | +1083 |
Baldwin Creek | At confluence with Little Bear Creek | None | +763 | Unincorporated Areas of Douglas County.
| Approximately 820 feet upstream of North Bear Drive | None | +1049 |
Tributary A | At confluence with Baldwin Creek | None | +941 | Unincorporated Areas of Douglas County.
| Approximately 2,450 feet upstream of Dorsett Shoals Road | None | +1084 |
Bear Creek | Approximately 300 feet upstream of confluence with Chattahoochee River | None | +741 | Unincorporated Areas of Douglas County.
| Approximately 630 feet upstream of Ridge Way | None | +1128 |
Tributary A | At confluence with Bear Creek | None | +741 | Unincorporated Areas of Douglas County.
| Approximately 1,190 feet upstream of confluence with Bear Creek | None | +752 |
Tributary B | At confluence with Bear Creek | None | +741 | Unincorporated Areas of Douglas County
| Approximately 530 feet upstream of State Highway 166 | None | +780 |
Tributary C | At confluence with Bear Creek | None | +756 | Unincorporated Areas of Douglas County.
| Approximately 390 feet upstream of Fouts Mill Road | None | +782 |
Tributary D | At confluence with Bear Creek | None | +761 | Unincorporated Areas of Douglas County.
| Approximately 420 feet upstream of Fox Glove Court | None | +820 |
Tributary E | At confluence with Bear Creek | None | +774 | Unincorporated Areas of Douglas County.
| Approximately 2,140 feet upstream of confluence with Bear Creek | None | +827 |
Tributary F | At confluence with Bear Creek | None | +818 | Unincorporated Areas of Douglas CountyD.
| Approximately 400 feet upstream of Yorktown Road | None | +901 |
Tributary G | At confluence with Bear Creek | None | +822 | Unincorporated Areas of Douglas County.
| Approximately 330 feet upstream of Kings Highway | None | +967
Bomar Branch | Approximately 50 feet upstream of confluence with Anneewakee Creek | +880 | +881 | Unincorporated Areas of Douglas County.
| Approximately 230 feet upstream of Appaloosa Trail | None | +939
Chapel Farms Creek | At confluence with Anneewakee Creek | None | +769 | Unincorporated Areas of Douglas County.
| Approximately 760 feet upstream of confluence of Chapel Farms Creek Tributary A | None | +917
Tributary A | At confluence with Chapel Farms Creek | None | +908 | Unincorporated Areas of Douglas County.
| Approximately 1,020 feet upstream of confluence with Chapel Farms Creek | None | +920
Coursey Creek | At confluence with Little Bear Creek | None | +813 | Unincorporated Areas of Douglas County.
| Approximately 4,510 feet upstream of Dorsett Shoals Road | None | +944
Crooked Creek | At confluence with Anneewakee Creek | +874 | +875 | Unincorporated Areas of Douglas County.
| Approximately 4,070 feet upstream of Bomar Road | None | +1021
Tributary A | At confluence with Crooked Creek | None | +897 | Unincorporated Areas of Douglas County.
| Approximately 4,270 feet upstream of confluence with Crooked Creek | None | +943
Tributary B | At confluence with Crooked Creek | None | +909 | Unincorporated Areas of Douglas County.
| Approximately 290 feet upstream of Pilgrim Drive | None | +938
Tributary C | At confluence with Crooked Creek | None | +914 | Unincorporated Areas of Douglas County.
| Approximately 430 feet upstream of Tara Woods Drive | None | +934
Tributary D | At confluence with Crooked Creek | None | +930 | Unincorporated Areas of Douglas County.
| Approximately 2,880 feet upstream of confluence with Crooked Creek | None | +969
Crossing Branch | At confluence with Anneewakee Creek | +898 | +905 | Unincorporated Areas of Douglas County, City of Douglasville.
| Approximately 6,340 feet upstream of confluence with Anneewakee Creek | None | +984
Dorsett Creek | At confluence with Bear Creek | None | +936 | Unincorporated Areas of Douglas County.
| Approximately 440 feet upstream of Dorsett Shoals Road | None | +1059
Douglas County Water Reservoir | Entire shoreline | +738 | +760 | Unincorporated Areas of Douglas County.
Farm Branch | At confluence with Anneewakee Creek | +881 | +885 | Unincorporated Areas of Douglas County.
| Approximately 290 feet upstream of Camel Drive | None | +927
Tributary A | At confluence with Farm Branch | +882 | +888 | Unincorporated Areas of Douglas County.
| Approximately 2,350 feet upstream of Bomar Road | None | +942
Gothards Creek | Approximately 12,900 feet downstream of confluence of Gothards Creek Tributary 3 | None | +923 | Unincorporated Areas of Douglas County.
| Approximately 10,000 feet downstream of confluence of Gothards Creek Tributary 3 | None | +926
Knollwood Branch | At confluence with Anneewakee Creek | None | +972 | Unincorporated Areas of Douglas County, City of Douglasville.
| Approximately 310 feet upstream of State Highway 5 | None | +1143
Tributary A | At confluence with Knollwood Branch | None | +1105 | Unincorporated Areas of Douglas County.
| Approximately 200 feet upstream of Pinehurst Way | None | +1137
Little Anneewakee Creek | At confluence with Anneewakee Creek | +895 | +897 | Unincorporated Areas of Douglas County, City of Douglasville.
| Approximately 450 feet upstream of East Big B Road | None | +1058
Tributary A | At confluence with Little Anneewakee Creek | +901 | +905 | Unincorporated Areas of Douglas County, City of Douglasville.
| Approximately 1,610 feet upstream of Bedford Place | None | +1043
Tributary B | At confluence with Little Anneewakee Creek | +909 | +910 | City of Douglasville.
| Approximately 940 feet upstream of Logan Lane | None | +967
Tributary C | At confluence with Little Anneewakee Creek | +922 | +925 | Unincorporated Areas of Douglas County, City of Douglasville.
| Approximately 1,910 feet upstream of confluence with Little Anneewakee Creek | None | +955
Tributary D | At confluence with Little Anneewakee Creek | +946 | +948 | Unincorporated Areas of Douglas County, City of Douglasville.
| Approximately 300 feet upstream of Cindy Drive (2nd crossing) | None | +1003
Tributary E | At confluence with Little Anneewakee Creek | +956 | +958 | Unincorporated Areas of Douglas County, City of Douglasville.
| Approximately 2,020 feet upstream of Little Anneewakee Creek | None | +1040
Little Bear Creek | At confluence with Bear Creek | None | +756 | Unincorporated Areas of Douglas County.
| Approximately 7,350 feet upstream of Smokestone Drive | None | +1019
Tributary A | At confluence with Little Bear Creek | None | +776 | Unincorporated Areas of Douglas County.
| Approximately 3,520 feet upstream of confluence of Little Bear Creek Tributary B | None | +880
Tributary B | At confluence with Little Bear Creek Tributary A | None | +806 | Unincorporated Areas of Douglas County.
| Approximately 1,340 feet upstream of confluence with Little Bear Creek Tributary A | None | +841
Tributary C | At confluence with Little Bear Creek | None | +791 | Unincorporated Areas of Douglas County.
| Approximately 4,760 feet upstream of confluence with Little Bear Creek | None | +882
Tributary D | At confluence with Little Bear Creek | None | +817 | Unincorporated Areas of Douglas County.
| Approximately 3,160 feet upstream of confluence with Little Bear Creek | None | +923
Tributary E | At confluence with Little Bear Creek | None | +827 | Unincorporated Areas of Douglas County.
| Approximately 7,500 feet upstream of confluence with Little Bear Creek | None | +917
Tributary F | At confluence with Little Bear Creek | None | +920 | Unincorporated Areas of Douglas County.
| Approximately 2,080 feet upstream of confluence with Little Bear Creek | None | +941
Mobley Creek Tributary 6 | Approximately 20 feet upstream of confluence with Mobley Creek | +933 | +934 | Unincorporated Areas of Douglas County.
| Approximately 450 feet upstream of confluence with Mobley Creek | +934 | +935
Panther Creek | At confluence with Chapel Farms Creek | None | +773 | Unincorporated Areas of Douglas County.
| Approximately 1,230 feet upstream of Chapel Hill Farms Drive | None | +933
Tributary A | At confluence with Panther Creek | None | +826 | Unincorporated Areas of Douglas County.
| Approximately 1,320 feet upstream of confluence with Panther Creek | None | +851
Simon Creek | At confluence with Anneewakee Creek | +877 | +878 | Unincorporated Areas of Douglas County.
| Approximately 1,660 feet upstream of Harvest Ridge Drive | None | +934
Slater Mill Creek | At confluence with Little Anneewakee Creek | +939 | +942 | Unincorporated Areas of Douglas County, City of Douglasville.
| Approximately 400 feet upstream of Village Court | None | +1059
Tributary A | At confluence with Slater Mill Creek | None | +1031 | City of Douglasville.
| Approximately 360 feet upstream of East Spring Street | None | +1171
Tributary B | At confluence with Slater Mill Creek | None | +1032 | Unincorporated Areas of Douglas County, City of Douglasville.
| Approximately 1,360 feet upstream of Fairburn Road/State Highway 92 | None | +1069
Sweetwater Creek | Approximately 5,900 feet downstream of State Highway 61/Dallas Highway | None | +972 | Unincorporated Areas of Douglas County.
| Approximately 2,450 feet upstream of State Highway 61/Dallas Highway | None | +979
Tanyard Branch | At confluence with Little Bear Creek | None | +805 | Unincorporated Areas of Douglas County.
| Approximately 210 feet upstream of Canterbury Walk Way | None | +1132
Tributary A | At confluence with Tanyard Branch | None | +1003 | Unincorporated Areas of Douglas County.
| Approximately 380 feet upstream of Twin Oak Drive | None | +1081
Tiger Creek | At confluence with Anneewakee Creek | None | +1045 | City of Douglasville.
| Approximately 650 feet upstream of Rose Avenue | None | +1152
Tributary A | At confluence with Tiger Creek | None | +1086 | City of Douglasville.
| Approximately 880 feet upstream of confluence with Tiger Creek | None | +1097
*National Geodetic Vertical Datum.
# Depth in feet above ground.
+North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Douglasville
Maps are available for inspection at 6695 Church Street, Douglasville, GA 30134.
Unincorporated Areas of Douglas County
Maps are available for inspection at 8700 Hospital Drive, Douglasville, GA 30134.
Warrick County, Indiana, and Incorporated Areas
Kelly Ditch | Approximately 900 feet upstream of the confluence with Cypress Creek | None | +388 | Unincorporated Areas of Warrick County, City of Boonville.
| Approximately 1,650 feet upstream of Baker Road | None | +398
Summer Pecka Ditch | Approximately 2,500 feet downstream of Anderson Road | None | +383 | Unincorporated Areas of Warrick County.
| Approximately 3,900 feet upstream of Martin Drive | None | +395
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Boonville
Maps are available for inspection at 135 South Second Street, Boonville, IN 47601.
Unincorporated Areas of Warrick County
Maps are available for inspection at 107 West Locust Street, Historic Courthouse, Room 201, Boonville, IN 47601.
Comanche County, Oklahoma, and Incorporated Areas
East Branch Wolf Creek | Approximately 3435 feet downstream from intersection with Cache Road | +1120 | +1121 | Unincorporated Areas of Comanche County, City of Lawton.
| Approximately 145 feet downstream from intersection with Interstate 62 | +1138 | +1142 |
East Cache Creek | Approximately 1390 feet downstream from intersection with SE Coombs Rd. | +1061 | +1060 | Unincorporated Areas of Comanche County, City of Lawton.
| Approximately 2930 feet downstream from confluence with Wratton Creek | +1092 | +1090
East Cache Creek Tributary A | At confluence with East Cache Tributary A-1 | +1080 | +1076 | City of Lawton.
| Approximately 2190 feet upstream from intersection with Flower Mound Rd. | +1132 | +1133 |
East Cache Creek Tributary B | Approximately 5275 feet upstream from confluence with East Cache Creek | +1074 | +1077 | City of Lawton.
| Approximately 4090 feet upstream from intersection with Flower Mound Rd. | +1113 | +1112 |
Meadowbrook Creek | Approximately 137 feet downstream from intersection Meadow Brook Dr. | +1122 | +1124 | City of Lawton.
| Approximately 2230 feet upstream from intersection with Northwest Creek Hollar Dr. | +1171 | +1170 |
Mission Creek | Approximately 6088 feet downstream from intersection with Lawrie Tatum Rd. | +1088 | +1090 | City of Lawton.
| Approximately 110 feet upstream from intersection with Interstate 62 | +1137 | +1134 |
Nine Mile Creek Tributary | Approximately 170 feet upstream from intersection with Highway 7 | +1132 | +1131 | Unincorporated Areas of Comanche County, City of Lawton.
| Approximately 2665 feet downstream from intersection with NE Cache Rd. | +1172 | +1171 |
Squaw Creek | Approximately 127 feet upstream from intersection with Highway 44 | +1079 | +1072 | Unincorporated Areas of Comanche County, City of Lawton.
| Approximately 1015 feet downstream from intersection with NW Denver Avenue | +1159 | +1161 |
Squaw Creek East Tributary B | Approximately at the intersection of Avenue I and 11 Street | +1100 | +1099 | City of Lawton.
| Approximately 220 feet downstream from intersection with Dearborn Avenue | +1135 | +1134 |
West Branch Squaw Creek | Approximately 245 feet downstream from intersection with Arbuckle Avenue | +1082 | +1078 | Unincorporated Areas of Comanche County, City of Lawton.
| Approximately 1743 upstream from confluence with West Branch Squaw Creek Tributary 4 | +1104 | +1107 |
West Branch Wolf Creek | Approximately 710 feet downstream from intersection with 53rd Street | +1120 | +1119 | Unincorporated Areas of Comanche County, City of Lawton.
| Approximately 255 feet downstream from intersection with NW Roger Lane | +1223 | +1226 |
West Branch Wolf Creek Tributary A | Approximately 1092 feet upstream from confluence with West Branch Wolf Creek | +1129 | +1128 | City of Lawton.
| At the intersection with Cache Rd. | +1179 | +1178 |
West Branch Wolf Creek Tributary B | Approximately 5750 feet upstream from confluence with West Branch Wolf Creek | +1179 | +1180 | City of Lawton.
| Approximately 144 feet downstream from intersection with NW Rogers Lane | +1264 | +1265 |
Wolf Creek | Approximately 887 feet downstream from intersection with Highway 44 | +1059 | +1058 | Unincorporated Areas of Comanche County, City of Lawton.
| Approximately 1050 feet downstream from intersection with Lee Boulevard | +1095 | +1094 |
Wratton Creek. | Approximately 411 feet downstream from intersection with Wratton Creek Tributary | +1099 | +1102 | Unincorporated Areas of Comanche County, City of Lawton.
| Approximately 5447 feet upstream from intersection with Flower Mound Rd | +1120 | +1122 |
Wratton Creek Tributary | At the intersection with Flower Mound Rd. | +1112 | +1111 | City of Lawton.
| Approximately 9175 feet upstream from intersection with Flower Mound Rd | +1139 | +1143 |
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street SW., Washington, DC 20472.
ADDRESSES
City of Lawton
Maps are available for inspection at City Hall, 103 Southwest 4th Street, Lawton, OK 73501.
Unincorporated Areas of Comanche County
Maps are available for inspection at Comanche County Court House, 315 SW 5th Street, Lawton, OK 73501.
Green County, Wisconsin, and Incorporated Areas
Allen Creek | At the confluence with Sugar River | +811 | +810 | Unincorporated Areas of Green County
| Approximately 250 feet downstream of County Highway E | +811 | +810 |
Little Sugar River | At the mouth at Albany Lake | +808 | +806 | Unincorporated Areas of Green County
| Just upstream of Tin Can Road | +808 | +807 |
Sugar River | Approximately 7,300 feet upstream of the Dam at Decatur Lake | +794 | +793 | Unincorporated Areas of Green County
| Approximately 1,200 feet upstream of Remy Road | None | +856 |
* National Geodetic Vertical Datum.
# Depth in feet above ground.
+ North American Vertical Datum.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Green County
Maps are available for inspection at Government Services Building, N3150 Highway 81, Monroe, WI 53566

(Catalog of Federal Domestic Assistance No. 97.022, “Flood Insurance.”)

Dated: December 14, 2007.
David I. Maurstad,
Federal Insurance Administrator of the National Flood Insurance Program, Department of Homeland Security, Federal Emergency Management Agency.

[FR Doc. E7-25316 Filed 12-27-07; 8:45 am]

BILLING CODE 9110-12-P